DEPARTMENT OF TRANSPORTATION

Federal Aviation Administration

14 CFR Part 39

[Docket No. 2000-NM-335-AD; Amendment 39-12690; AD 2002-06-12]

RIN 2120-AA64

Airworthiness Directives; Dassault Model Mystere-Falcon 50 Series Airplanes

AGENCY: Federal Aviation Administration, DOT.

ACTION: Final rule.

SUMMARY: This amendment adopts a new airworthiness directive (AD), applicable to certain Dassault Model Mystere-Falcon 50 series airplanes, that requires repetitive tests of double-skin feeder tanks for fuel leaks, and corrective actions, if necessary. It also requires modification of seals in the feeder tanks, which terminates the repetitive leak tests. This amendment is prompted by issuance of mandatory continuing airworthiness information by a foreign airworthiness authority. The actions specified by this AD are intended to prevent fuel leaks from the feeder tanks, which could result in fuel vapors in the cabin that could come into contact with ignition sources. The actions are intended to address the identified unsafe condition.

DATES: Effective May 7, 2002.

The incorporation by reference of certain publications listed in the regulations is approved by the Director of the Federal Register as of May 7, 2002.

ADDRESSES: The service information referenced in this AD may be obtained from Dassault Falcon Jet, P.O. Box 2000, South Hackensack, New Jersey 07606. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION: A proposal to amend part 39 of the Federal Aviation Regulations (14 CFR part 39) to include an airworthiness directive (AD) that is applicable to certain Dassault Model Mystere-Falcon 50 series airplanes was published as a supplemental notice of proposed rulemaking in the Federal Register on January 2, 2002 (67 FR 33). That action proposed to require repetitive tests of double-skin feeder tanks for fuel leaks, and corrective actions, if necessary. It also proposed to require modification of seals in the feeder tanks, which would have terminated the repetitive leak tests.

Comments

Interested persons have been afforded an opportunity to participate in the making of this amendment. No comments were received in response to the proposed rule or the FAA's determination of the cost to the public.

Conclusion

The FAA has determined that air safety and the public interest require the adoption of the rule as proposed.

Cost Impact

The FAA estimates that 46 Model Mystere-Falcon 50 series airplanes of U.S. registry will be affected by this AD, that it will take approximately 8 work hours per airplane to accomplish the required leak tests, and that the average labor rate is $60 per work hour. Based on these figures, the cost impact of the required leak tests on U.S. operators is estimated to be $22,080, or $480 per airplane per test.

The FAA estimates that it will take approximately 50 work hours per airplane to rework the seals in the feeder tanks, and that the average labor rate is $60 per work hour. The required parts will be provided at no charge to the operator. Based on these figures, the cost impact of reworking the seals on U.S. operators is estimated to be $138,000, or $3,000 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-06-12 Dassault Aviation: Amendment 39-12690. Docket 2000-NM-335-AD.

Applicability: Model Mystere-Falcon 50 series airplanes, certificated in any category, serial numbers 222 to 286 inclusive, 288, 290, and 291.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent fuel leaks from the feeder tanks, which could result in fuel vapors in the cabin that could come into contact with ignition sources, accomplish the following:

Leak Testing

(a) Within 7 months after the effective date of this AD: Perform a feeder tank leak test by sampling at the drain ports of frames 29 and 31, in accordance with Work Card No. 686.3/1 of the Dassault Falcon 50 Maintenance Manual, Revision 07, dated August 2001. Repeat the leak test at intervals not to exceed 13 months, until accomplishment of paragraph (c) of this AD.

Corrective Action

(b) If the feeder tank leak test indicates that a leak is present: Prior to further flight, renew the seal, in accordance with Work Card No. 686.4/1 of the Dassault Falcon 50 Maintenance Manual, Revision 07, dated August 2001.

Modification

(c) Within 78 months since the date of manufacture of the airplane: Rework the seals of the double-skin feeder tanks at frames 28 and 31, in accordance with Dassault Service Bulletin F50-328, dated May 31, 2000. Accomplishment of the rework terminates the requirements of this AD.

Alternative Methods of Compliance

(d) An alternative method of compliance or adjustment of the compliance time that provides an acceptable level of safety may be used if approved by the Manager, International Branch, ANM-116, FAA. Operators shall submit their requests through an appropriate FAA Principal Maintenance Inspector, who may add comments and then send it to the Manager, International Branch, ANM-116.

Note 2: Information concerning the existence of approved alternative methods of compliance with this AD, if any, may be obtained from the Manager, International Branch, ANM-116.

Special Flight Permits

(e) Special flight permits may be issued in accordance with sections 21.197 and 21.199 of the Federal Aviation Regulations (14 CFR 21.197 and 21.199) to operate the airplane to a location where the requirements of this AD can be accomplished.

Incorporation by Reference

(f) The modification shall be done in accordance with Dassault Service Bulletin F50-328, dated May 31, 2000. This incorporation by reference was approved by the Director of the Federal Register in accordance with 5 U.S.C. 552(a) and 1 CFR part 51. Copies may be obtained from Dassault Falcon Jet, P.O. Box 2000, South Hackensack, New Jersey 07606. Copies may be inspected at the FAA, Transport Airplane Directorate, 1601 Lind Avenue, SW., Renton, Washington; or at the Office of the Federal Register, 800 North Capitol Street, NW., suite 700, Washington, DC.

Note 3: The subject of this AD is addressed in French airworthiness directive 2000-163-030(B), dated April 19, 2000.

Effective Date

(g) This amendment becomes effective on May 7, 2002.

Issued in Renton, Washington, on March 21, 2002.
Kalene C. Yanamura,
Acting Manager, Transport Airplane Directorate, Aircraft Certification Service.

[FR Doc. 02-7411 Filed 4-1-02; 8:45 am]

BILLING CODE 4910-13-U